DEPARTMENT OF AGRICULTURE

Office of the Secretary

[Docket No. 00-001-2]

Declaration of Emergency Because of Plum Pox Virus

An exotic plant virus, plum pox virus, has been detected in the United States. The disease was detected in Pennsylvania and had not previously been detected in the United States.

Plum pox virus is the cause of an extremely serious plant disease, affecting a number of Prunus species, including peach, nectarine, apricot, plum, and almond. Infection eventually results in severely reduced fruit production, and the fruit that is produced is often misshapen and blemished. There is no cure or treatment for the disease once a tree becomes infected. In Europe, where plum pox has been present for a number of years, the disease is considered to be the most serious disease affecting susceptible Prunus species. The disease is spread over short distances by a number of different aphid species, and over longer distances through the movement of infected budwood and nursery stock. The strain of virus now present in the United States is known not to be seed-transmitted.

If plum pox is allowed to become established and to spread, the overall crop loss and impact on quality could be significant. The estimated annual value of stone fruit at the farm gate for the entire United States is at least $1.8 billion. If steps are not taken to eradicate plum pox in the very limited area in Pennsylvania where it is now known to be present, there is every possibility the disease will eventually spread to other areas in the United States where host crops are produced. This would result in substantial losses to producers of these important fruit crops, and to those industries that transport, process, or otherwise utilize this fruit. Consumers would also be affected by a reduction in the quantity and quality of fruit available, and by increased prices.

There are three components to controlling and eradicating plum pox: (1) A regulatory program to prevent the movement of plant material infected with plum pox virus from the area where it is now known to be present to other areas where the host plants are likely to be present; (2) a survey program adequate to detect any additional infestations of plum pox virus that may be present; and (3) a control program to remove all infested orchards. Initial action was taken by the Pennsylvania Department of Agriculture (PDA). The PDA has instituted a quarantine that encompasses the two townships that include the area where plum pox virus is now known to be present. The Animal and Plant Health Inspection Service (APHIS) of the United States Department of Agriculture intends to establish a parallel Federal quarantine of this area.

APHIS has insufficient funds to conduct the control and eradication programs deemed necessary to protect stone fruit production areas. Once funded, APHIS can continue a control and eradication program.

Therefore, in accordance with the provisions of the Act of September 25, 1981, 95 Stat. 953 (7 U.S.C. 147b), I declare that there is an emergency that threatens the stone fruit crops of this country, and I authorize the transfer and use of such sums as may be necessary from appropriations or other funds available to agencies or corporations of the United States Department of Agriculture for the conduct of a program to control and prevent the spread of plum pox to noninfested areas of the United States, and to eradicate plum pox wherever it may be found in the United States.

EFFECTIVE DATE: This declaration of emergency shall become effective January 20 , 2000.

Dan Glickman,
Secretary of Agriculture.

[FR Doc. 00-4987 Filed 3-1-00; 8:45 am]

BILLING CODE 3410-34-P